DEPARTMENT OF COMMERCE

International Trade Administration

[A-583-843]

Polyethylene Retail Carrier Bags From Taiwan: Affirmative Preliminary Determination of Circumvention of the Antidumping Duty Order

AGENCY: Enforcement and Compliance, International Trade Administration, Department of Commerce.

SUMMARY: The Department of Commerce (the Department) preliminarily determines that imports of unfinished polyethylene retail carrier bags (PRCBs) from Taiwan are circumventing the antidumping duty order on PRCBs from Taiwan.¹ As a result, imports of PRCBs from Taiwan will be subject to suspension of liquidation effective July 31, 2013. Interested parties are invited to comment on this preliminary determination.

¹ See Antidumping Duty Orders: Polyethylene Retail Carrier Bags from Indonesia, Taiwan, and the Socialist Republic of Vietnam, 75 FR 23667 (May 4, 2010) (the Order).

DATES: Effective Date: June 2, 2014.

FOR FURTHER INFORMATION CONTACT: Hermes Pinilla or Minoo Hatten, Office I, Enforcement and Compliance, International Trade Administration, U.S. Department of Commerce, 14th Street and Constitution Avenue NW., Washington, DC 20230; telephone: (202) 482-3477, and (202) 482-1690, respectively.

SUPPLEMENTARY INFORMATION:

Scope of the Order

The merchandise covered by the Order is PRCBs. PRCBs subject to the order are currently classifiable in the Harmonized Tariff Schedule of the United States (HTSUS) at subheading 3923.21.0085. The HTSUS subheading is provided for convenience and customs purposes.² The written description is dispositive.

² A full description of the scope of the Order is contained in the memorandum from Christian Marsh, Deputy Assistant Secretary for Antidumping and Countervailing Duty Operations, to Paul Piquado, Assistant Secretary for Enforcement and Compliance, “Preliminary Decision Memorandum for the Circumvention Inquiry of the Antidumping Duty Order on Polyethylene Retail Carrier Bags from Taiwan” dated concurrently with this notice (Preliminary Decision Memorandum), which is hereby adopted by this notice.

The Preliminary Decision Memorandum is a public document and can be accessed directly on the Internet at http://enforcement.trade.gov/frn/index.html. In addition, the Preliminary Decision Memorandum is on file electronically via Enforcement and Compliance's Antidumping and Countervailing Duty Centralized Electronic Service System (IA ACCESS). Access to IA ACCESS is available to registered users at http://iaaccess.trade.gov, and it is available to all parties in the Central Records Unit, room 7046 of the main Department of Commerce building. The signed Preliminary Decision Memorandum and the electronic versions of the Preliminary Decision Memorandum are identical in content.

Scope of the Circumvention Inquiry

This circumvention inquiry covers merchandise from Taiwan that appears ready to undergo the final processing of cutting the unfinished PRCBS to length, sealing the bottoms, and die-cutting the unfinished PRCBs to create the handles of the finished PRCBs. The unfinished PRCBs subject to this inquiry may or may not have printing and may be of different dimensions as long as they otherwise meet the description of the scope of the order.

Methodology

The Department made this preliminary finding of circumvention in accordance with section 781(a) of the Tariff Act of 1930, as amended (Act) and 19 CFR 351.225(g). We relied on information placed on the record by Hilex Poly Co., LLC and Superbag Corp. (the petitioners) and the importer of record, SmileMakers Inc. For a full description of the methodology underlying our conclusions, see the Preliminary Decision Memorandum.

Preliminary Determination

As detailed in the Preliminary Decision Memorandum, we preliminarily determine, pursuant to section 781(a) of the Act, that imports of unfinished PRCBs from Taiwan are circumventing the Order. A list of the topics discussed in the Preliminary Decision Memorandum is attached as an Appendix to this notice.

Suspension of Liquidation

In accordance with 19 CFR 351.225(l)(2), we are directing U.S. Customs and Border Protection (CBP) to suspend liquidation of entries of merchandise subject to this inquiry that is entered, or withdrawn from warehouse, for consumption on or after July 31, 2013, the date of publication of the initiation of this inquiry.³ We will also instruct CBP to require a cash deposit of estimated duties at the applicable rates for each unliquidated entry of the product entered, or withdrawn from warehouse, for consumption on or after July 31, 2013, in accordance with 19 CFR 351.225(l)(2).

³ See Polyethylene Retail Carrier Bags From Taiwan: Initiation of Anti-circumvention Inquiry on Antidumping Duty Order, 78 FR 46319 (July 31, 2013).

Public Comment

Pursuant to 19 CFR 351.309(c) and (d), interested parties may submit case and rebuttal briefs. Case briefs will be due not later than 30 days after the date of publication of this notice. Pursuant to 19 CFR 351.309(d), rebuttal briefs, limited to issues raised in the case briefs, may be filed not later than five days after the date for filing case briefs. Parties who submit case briefs or rebuttal briefs in this proceeding are encouraged to submit with each argument: (1) a statement of the issue; (2) a brief summary of the argument; and (3) a table of authorities. All such case and rebuttal briefs must be filed electronically via IA ACCESS. An electronically filed document must be received successfully in its entirety by the Department's electronic records system, IA ACCESS, by 5 p.m. Eastern Time on the date on which it is due.

Additionally, pursuant to 19 CFR 351.310(c), interested parties who wish to request a hearing, or to participate if one is requested, must submit a written request to the Assistant Secretary for Enforcement and Compliance, filed electronically via IA ACCESS within 30 days after the date of publication of this notice. Requests should contain: (1) the party's name, address and telephone number; (2) the number of participants; and (3) a list of issues to be discussed. Issues raised in the hearing will be limited to those raised in the respective case briefs.

As discussed in the memorandum entitled, “Polyethylene Retail Carrier Bags from Taiwan: Extension of Deadline for Final Determination of Anticircumvention Inquiry,” dated May 16, 2014, the current deadline for the final determination for this inquiry is June 6, 2014. We intend to extend this deadline for the final determination of circumvention by 150 days to November 3, 2014.

Notification to the International Trade Commission

Pursuant to section 781(e) of the Act, we will notify the International Trade Commission of the proposed inclusion of unfinished PRCBs in the Order.

Notification to Interested Parties

This preliminary determination of circumvention is in accordance with section 781(a) of the Act and 19 CFR 351.225.

Dated: May 27, 2014.
Paul Piquado,
Assistant Secretary for Enforcement and Compliance.

Appendix

List of Topics Discussed in the Preliminary Decision Memorandum

1. Summary

2. Background

3. Scope of the Order

4. Merchandise Completed or Assembled in the United States and Subject to This Anti-Circumvention Inquiry

5. Statutory and Regulatory Framework

6. Allegations of Circumvention as Identified in the Initiation of Inquiry

7. Analysis

A. The Merchandise Sold in the United States Is of the Same Class or Kind as Merchandise Subject to the Order

B. The Merchandise Sold in the United States Is Completed from Parts or Components Produced in Taiwan, the Foreign Country

C. The Process of Assembly or Completion in the United States is Minor or Insignificant

D. The Value of the Parts or Components Produced in the Foreign Country Is a Significant Portion of the Total Value of the Merchandise

E. Additional Factors to Consider

i. Pattern of Trade, Including Sourcing Patterns

ii. Affiliation

iii. Subsequent Import Volume

8. Recommendation

[FR Doc. 2014-12701 Filed 5-30-14; 8:45 am]

BILLING CODE 3510-DS-P